DEPARTMENT OF DEFENSE

Department of the Navy

Record of Decision for Developing Home Port Facilities for Three NIMITZ-Class Aircraft Carriers in Support of the U.S. Pacific Fleet

AGENCY: Department of the Navy, DOD.

ACTION: Notice of record of decision.

SUMMARY: The Department of the Navy, after carefully weighing the operational, environmental, and cost implications of home port facilities for NIMITZ-class nuclear-powered aircraft carriers (“CVNs”) in the Pacific Fleet, announces its decision to: (1) construct facilities and infrastructure required to home port two additional CVNs at Naval Air Station North Island (NASNI), Coronado, CA; (2) upgrade existing CVN support facilities at Puget Sound Naval Shipyard (PSNS), Bremerton, WA; and (3) retain Naval Station (NAVSTA) Everett, WA, as a CVN home port.

SUPPLEMENTARY INFORMATION: The text of the entire Record of Decision (ROD) is provided as follows:

Background

Pursuant to Section 102(2)(c) of the National Environmental Policy Act (NEPA) of 1969, 42 U.S.C. Section 4332(2)(c), the regulations of the Council on Environmental Quality that implement NEPA procedures, 40 CFR Parts 1500-1508, and 40 CFR 93, the General Conformity Rule of the Clean Air Act, the Department of the Navy (DON) announces its decision regarding home port facilities and infrastructure for CVNs in support of the U.S. Pacific Fleet.

First, as conventionally-powered aircraft carriers (CVs) reach the end of their service life and are replaced by nuclear-powered carriers (CVNs), the Navy has a need to create the capacity to home port these new CVN assets. Compared to the CV, the CVN is a newer class of aircraft carrier that has a wider beam, a deeper draft, and different shore maintenance and support requirements. Consequently, a CVN home port requires different shore infrastructure than that provided for a CV. The U.S. Pacific Fleet is preparing for the replacement of two CVs assigned within the U.S. Pacific Fleet area of responsibility (AOR) with two CVNs. Therefore, there is a need to select locations within the Pacific Fleet AOR for the construction of facilities and infrastructure necessary to create the capacity to home port these CVNs.

Second, changes in CVN home port pier, logistics support area, and utility infrastructure standards for CVN home ports created the need to decide whether to upgrade the existing CVN home port facilities at PSNS to meet those standards or maintain the existing facilities even though they did not meet current standards.

Third, development of Planned Incremental Availability (PIA) maintenance for CVNs created the need to re-evaluate the viability of retaining NAVSTA Everette as a CVN home port to determine if the facilities and infrastructure could efficiently support a CVN while undergoing a PIA maintenance program without adversely affecting crew quality of life.

The DON undertook the planning effort for these decisions on December 3, 1996, when it published a Notice of Intent (NOI) to prepare an Environmental Impact Statement in the Federal Register. A public scoping meeting was held in each of the following locations: Bremerton, Washington; Everett, Washington; Pearl City, Hawaii; and Coronado, California. A Notice of Availability (NOA) for the Draft EIS (DEIS) was published in the Federal Register on August 28, 1998. Public hearings were held on the DEIS in the same four locations as the scoping meetings and in San Diego, CA. Approximately 317 individuals, agencies, and organizations submitted comments on the DEIS during the 75 day public comment period. All oral and written comments were considered in the preparation of the Final EIS (FEIS). The NOA for the FEIS was published in the Federal Register on July 9, 1999. In addition, public notices and news releases noting the availability of the FEIS and draft Final Clean Air Act (CAA) Conformity Determination were published in local and regional newspapers beginning on July 10, 1999. The DON received approximately 60 public comment letters on the FEIS during a 60-day public review period.

Alternatives

Four areas within the Pacific Fleet AOR were considered as feasible locations for the development of CVN home port capacity. The four areas considered were: Naval Air Station North Island (NASNI) Coronado, CA; Puget Sound Naval Shipyard (PSNS) Bremerton, WA; Naval Station (NAVSTA) Everett, WA; and Pearl Harbor Naval Shipyard (PHNSY) Pearl Harbor, HI. Using these four locations, six alternative configurations for creating the necessary CVN home port capacity, including a no construction alternative, were developed and analyzed. Each alternative was evaluated and compared against the others in terms of: operational, logistical, and personnel requirements; environmental impacts; and facility and infrastructure life cycle costs.

The EIS contained a commitment on the part of the DON to carefully review information collected on crew quality of life (QOL) and maintenance during USS ABRAHAM LINCOLN's first PIA at PSNS. USS ABRAHAM LINCOLN's PIA was completed in October 1999. Information collected concerning QOL demonstrated that commuting from home port at NAVSTA Everett to PSNS did not significantly impact the crew of USS ABRAHAM LINCOLN. The results of this PIA revealed the quality of maintenance met expectations, the maintenance schedule was achieved, the increase in overall cost to perform the maintenance away from home port was acceptable, and the PERSTEMPO/OPTEMPO implications of maintaining NAVSTA Everett as a home port were acceptable.

This additional information was not available at the time the FEIS was published, but was included in DON's evaluation of whether to keep existing home port facilities at NAVSTA Everett or develop home port facilities at PSNS. The availability of this new information does not generate a need for additional environmental analysis. The analysis of the six alternatives considered in the EIS process thoroughly addressed the environmental impacts associated with a CVN remaining at NAVSTA Everett and those associated with creating additional home port capacity at PSNS.

Based upon my review of the comparative analysis of alternatives and public comments received during the NEPA process, I have selected Alternative Two, which was identified as the preferred Alternative in the DEIS and FEIS, as the DON action for developing CVN home port capacity. Alternative Two will create home port capacity for two additional CVNs at NASNI, bringing the total CVN home port capacity at NASNI to three. Under Alternative Two the CVN home port facilities at PSNS will be upgraded to meet current standards and NAVSTA Everett will remain a CVN home port.

Implementation of Alternative Two at NASNI requires that existing Pier J/K be demolished and replaced by a wharf meeting the berthing requirements of a CVN. Approximately 582,000 cubic yards (cy) of sediment will be dredged to meet depth requirements. Most of the material will be deposited at an in-bay location south of the Naval Amphibious Base (NAB) to create an NAB Habitat Enhancement Area, and some of the material will be used as fill for the wharf. A 1.5 to 2.5 acre intertidal habitat will be created from an upland site to compensate for intertidal/subtidal habitat filled as part of the wharf construction. Berthing for a second additional CVN will be along the section of the existing quay wall that currently serves as the transient berth for CVNs not homeported at NASNI. No dredging is required to convert the transient berth to a permanent berth for the second additional CVN. Utility upgrades are required, as is additional fencing.

Implementation of Alternative Two at PSNS requires that Pier D be removed and replaced by a new pier that meets current berthing criteria for a CVN home port. Dredging of approximately 425,000 cy will be accomplished at Pier D and its turning basin and also at two other CVN maintenance berths and their associated turning basins. The dredged material determined to be suitable for unconfined aquatic disposal will be deposited at a site in Elliot Bay designated under the Puget Sound Dredge Disposal Analysis Program. Material unsuitable for unconfined aquatic disposal will be deposited at an appropriately permitted upland landfill or in one of three Confined Disposal Facilities/Confined Aquatic Disposal sites shown in the FEIS.

Implementation of Alternative Two at NAVSTA Everett requires no action.

Alternative Six (the no construction alternative) is the environmentally preferred alternative because it involves the least disturbance of the natural environment. While environmentally preferable, this alternative would overtax utility, logistical, and personnel support infrastructures at NASNI and PSNS. Consequently, Alternative Six places an unacceptable constraint on the mission capability of the U.S. Pacific Fleet from an operational, training, and personnel perspective.

Environmental Impacts and Mitigation

The DON analyzed the potential impacts of the selected action in fifteen environmental resource areas: geology; topography and soils; terrestrial hydrology and water quality; marine water quality; sediment quality; marine biology; transportation; air quality; noise; aesthetics; cultural resources; general services/access; health and safety; utilities; and environmental justice. This ROD summarizes the potentially significant, but mitigable, impacts associated with Alternative Two, the DON's selected alternative.

Dredging and pier replacement at NASNI will cause the loss of 1.5 acres of intertidal and subtidal habitat. Impacts to habitat will be mitigated by the construction of 1.5 to 2.5 acres of intertidal habitat at a nearby upland site, and creation of additional snowy plover nesting habitat. The potential loss of eelgrass will be monitored through surveys before and after construction. If the post-construction surveys determine that a loss of eelgrass has occurred, the Navy will provide mitigation for that loss. The amount of eel grass lost will be applied against the Navy's north-central eelgrass mitigation bank according to the 1992 Southern California Eelgrass Mitigation Policy Guidelines, as amended.

Consultation with the U.S. Fish and Wildlife Service and the National Marine Fisheries Service led to the conclusion that dredging and pier construction at PSNS could impact threatened and endangered species of salmon during their out-migration season. In order to mitigate impacts on salmon migration, the Navy will avoid dredging and marine construction during established salmon migration windows. Impacts from construction of a confined disposal facility (CDF), if such a facility is required by the terms of the CWA Section 404 permit obtained for dredging and marine construction activities, will be offset by making the area occupied by the CDF a shallow water habitat area.

Overall impacts on the coastal resources in California were addressed in the coastal consistency determination (CCD) submitted to the California Coastal Commission (CCC) by DON. On December 8, 1999, the California Coastal Commission unanimously concurred that the proposed development of home port capacity at NASNI was consistent to the maximum extent practicable with the California Coastal Management Program. In public hearings on the DON consistency determination held on the same day, DON agreed to continue discussions with the CCC staff about emergency planning issues, thermal discharges from CVNs, and Best Management Practices (BMPs) for stormwater runoff control. DON agreed to discuss these three issues further with the CCC staff, and to present the results to the Commission at another public hearing on or before April 2000. DON also agreed that, if the DON Record of Decision for the development of CVN home port facilities required pier construction at NASNI, no construction work would begin at NASNI before presentation of these results to the Commission on or before April 2000. All construction activities and the operation of facilities necessary to implement Alternative Two will be undertaken in a manner consistent with the terms and conditions of required permits.

Responses to Comments on the FEIS

The DON received comments on the FEIS from elected officials, federal, state, and local government agencies, citizen's groups, and individuals. Most of the issues raised in the comments had already been addressed in the FEIS in response to comments received on the DEIS. New issues raised in comments received on the FEIS concerning those aspects of the proposed action at NASNI are addressed below. No new issues were raised in comments received concerning those aspects of the proposed action at PSNS, NAVSTA Everett or NAVSTA Pearl Harbor.

Commentors noted that the FEIS did not discuss the potential for the proposed project to exacerbate water quality problems in San Diego Bay associated with areas identified under CWA, Section 303(d). Section 303(d) requires states to list those areas for which water quality standards cannot be implemented. As none of the sites in San Diego Bay listed under Section 303(d) are near enough to the proposed pier and mitigation sites to be affected by short term construction and dredging activities, these activities will not further hinder the implementation of water quality standards at any of the sites listed under the CWA.

Commentors noted that the cumulative impact section did not address traffic increases in the City of Coronado they anticipated would accompany the upgraded commissary and exchange facilities proposed for NASNI. The Navy does not anticipate that upgrading commissary and exchange facilities at NASNI will cause any appreciable increase in traffic. Commissary and exchange facilities are already present at NASNI. Changes to those facilities are not expected to attract new users. The pool of eligible patrons in the San Diego area is relatively stable. Patrons are expected to continue to shop at the larger, more conveniently located facilities at Naval Station San Diego, Marine Corps Air Station Miramar, and Camp Pendleton.

Commentors stated that the FEIS failed to analyze the increased probability that invasive species would be introduced into San Diego Bay through ballast water discharges from CVNSs homeported at NASNI. Trim and list on CVNs are maintained through a closed system of freshwater tanks. Unlike conventionally-powered ships, no ballast water is taken from or discharged to surrounding waters. Therefore there is no avenue by which invasive species can be introduced into San Diego Bay from CVN ballast water.

It was clear from some comments received on the FEIS that concern still exists about the Navy's adherence to the NEPA process, the marine environment in San Diego Bay, traffic within the City of Coronado, and nuclear propulsion aspects of the addition of more home port capacity for CVNs in the San Diego area. Even though these issues were specifically addressed in the FEIS and there is no requirement that the DON address them further in the ROD, a brief discussion is included here to demonstrate that these concerns have been carefully considered.

Some commentors suggested that regulations implementing NEPA required Navy to reissue the DEIS due to changes included in the FEIS. The DON carefully reviewed the differences between the DEIS and FEIS and concluded that reissuing the DEIS was not required. The NEPA process is an iterative one, designed to produce an FEIS that reflects change, clarification, and refinement of the DEIS based upon comments received from the public. No changes included in the FEIS were so substantial as to require republication of the DEIS.

Some commentors sought more information on the potential loss of eelgrass and soil contamination levels at the upland mitigation site on North Island. In the DEIS, the best available information was used to predict impacts to eelgrass and pollutant levels at the mitigation site. This information was subsequently validated by additional data collected and analyzed in conjunction with the DON's pending application for a CWA Section 404 permit.

Some commentors sought a new discussion about copper leaching into San Diego Bay from anti-fouling paint on ship hulls. The Navy calculated the amount of copper expected to leach from anti-fouling paint on ship hulls and concluded in the FEIS that the net difference from replacement of CVs by CVNs will not be significant. Also, the number of Navy ships berthed in San Diego has decreased. Therefore, there would be no cumulative increase in the amount of copper leaching into the bay.

The City of Coronado and a number of its citizens expressed concern that creating the home port capacity for three CVNs at NASNI will result in major increases in commuter traffic along Coronado streets. The DON took a hard look at the traffic impact associated with creating home port capacity for two additional CVNs. The best available historical data on the days spent in port by CVs homeported at NASNI was analyzed and future days in port by CVNs were projected based upon anticipated training and deployment requirements. These historical data and projections suggest that the decision to create home port capacity for two additional CVNs at NASNI will not cause significant traffic impacts.

Historically, even when three aircraft carriers were assigned NASNI as a home port, all three of those aircraft carriers were present in port at the same time only an average of thirteen days per year. Based upon training requirements, maintenance schedules, and projected operational tempo, the implementation of Alternative Two is not expected to increase the average number of days a year three CVNs will be present at their NASNI home port. While traffic levels will increase for those brief periods when three CVNs assigned to NASNI are present, overall traffic impacts will be less than significant. Nevertheless, the DON will use mitigation measures to reduce the level of traffic during those infrequent periods when three CVNs assigned to NASNI are simultaneously in port. Mitigation may include measures such as staggering work hours, encouraging carpools and vanpools, and subsidizing the use of public transportation by military personnel and civilian employees. The DON will monitor the effectiveness of these traffic mitigation measures. If the mitigation measures are not successful and traffic associated with the presence of a third homeported CVN creates a significant adverse effect on traffic conditions in Coronado, DON will develop additional mitigation measures.

Several commentors from the San Diego area expressed concern that nuclear propulsion issues such as reactor accident analysis, emergency planning, perimeter monitoring, distribution of potassium iodide, and notification of releases were not thoroughly considered in the FEIS process. The FEIS discusses, among other points, how NIMITZ Class reactor designs have received independent review by the Nuclear Regulatory Commission and the Advisory Committee on Reactor Safeguards, and that the Navy has plans and procedures in place for all types of emergencies that could be associated with Naval Nuclear Propulsion Program (NNPP) operations. These plans and procedures contain classified and sensitive military information that cannot be released to the public. In recent meetings among DON, State, County, and local emergency response officials, the consensus was reached that existing DON, State, County, and local emergency plans are adequate in the highly unlikely event of a radiological emergency.

I thoroughly reviewed the entire discussion of nuclear propulsion radiologcal issues in the EIS, including classified information not releasable to the public. I am convinced that there are no significant radiological impacts associated with creating and utilizing home port capacity at any of the three locations affected by this decision. As there are no significant radiological impacts, mitigation measures such as installation of a perimeter monitoring system or disputing of potassium iodide are not warranted.

Conclusion

On behalf of the Department of Navy, I have decided to implement Alternative Two, as set out in the FEIS, for development of home port capacity for CVNs within the U.S. Pacific Fleet AOR.

In selecting where to create home port capacity for the two CVNs programmed to replace existing CV assets within the U.S. Pacific Fleet, I considered how the development of home port capacity as set out in each alternative analyzed in the EIS would affect: (1) Operations and training, crew quality of life, and the CVN maintenance program; (2) the environment; and (3) facility and infrastructure life cycle costs. I took a hard look at the environmental impacts analyzed in the EIS and gave careful consideration to the comments received on the DEIS and FEIS.

After weighing all of these factors, I have determined that Alternative Two, the preferred alternative in the FEIS, best serves the interests of the DON while keeping environmental impacts at a less than significant level. Alternative Two satisfies the operational, training, and maintenance requirements of the Pacific Fleet, provides acceptable quality of life for Navy sailors and their families, causes no significant environmental impacts, and entails manageable facility and infrastructure costs.

Dated: January 28, 2000.
Duncan Holaday,
Deputy Assistant Secretary of the Navy (Installations and Facilities).

[FR Doc. 00-2831 Filed 2-7-00; 8:45 am]

BILLING CODE 3810-FF-M